DEPARTMENT OF COMMERCE

National Oceanic and Atmospheric Administration

RIN 0648-XF497

Mid-Atlantic Fishery Management Council (MAFMC); Public Meeting; Correction

AGENCY: National Marine Fisheries Service (NMFS), National Oceanic and Atmospheric Administration (NOAA), Commerce.

ACTION: Notice of scoping meetings; correction.

SUMMARY: The Mid-Atlantic Fishery Management Council is holding public scoping meetings to gather input on the development of the Excessive Shares Amendment to the Surfclam and Ocean Quahog FMP. Input obtained from these meetings will be considered by the Council when developing this Amendment.

FOR FURTHER INFORMATION CONTACT: Dr. Christopher Moore, Executive Director, Mid-Atlantic Fishery Management Council, telephone: (302) 526-5255.

SUPPLEMENTARY INFORMATION:

Correction

In the Federal Register on June 23, 2017, in FR Doc. 2017-13152, on page 28643, in the first column, the SUMMARY is corrected as set forth above.

Dated: June 30, 2017.
Tracey L. Thompson,
Acting Deputy Director, Office of Sustainable Fisheries, National Marine Fisheries Service.

[FR Doc. 2017-14153 Filed 7-5-17; 8:45 am]

BILLING CODE 3510-22-P